DEPARTMENT OF THE TREASURY

Submission for OMB Review; Comment Request

August 12, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 19, 2002, to be assured of consideration.

Internal Revenue Service (IRS)

OMB Number: 1545-0184.

Form Number: IRS Form 4797.

Type of Review: Revision.

Title: Sales of Business Property.

Description: Form 4797 is used by taxpayers to report sales, exchanges, or involuntary conversion of assets, other than capital assets, and involuntary conversion of capital assets held more than one year. It is also used to compute ordinary income from recapture and the recapture of prior year section 1231 losses.

Respondents: Individuals or households, Business or other for-profit.

Estimated Number of Respondents/Recordkeepers: 1,396,388.

Estimated Burden Hours Per Respondent/Recordkeeper:

Recordkeeping: 33 hr., 28 min.

Learning about the law or the form: 7 hr., 56 min.

Preparing, copying, assembling, and sending the form to the IRS: 8 hr., 50 min.

Frequency of Response: Annually.

Estimated Total Reporting/Recordkeeping Burden: 70,196,425 hours.

OMB Number: 1545-1012.

Form Number: IRS Form 5305A-SEP.

Type of Review: Extension.

Title: Salary Reduction Simplified Employee Pension-Individual Retirement Accounts Contribution Agreement.

Description: Form 5305A-SEP is used by an employer to make an agreement to provide benefits to all employees under a salary reduction Simplified Employee Pension (SEP) described in section 408(k). This form is not to be filed with IRS, but is to be retained in the employers' records as proof of establishing such a plan, thereby justifying a deduction for contributions made to the SEP. The data is used to verify the deduction.

Respondents: Business or other for-profit.

Estimated Number of Respondents/Recordkeepers: 100,000.

Estimated Burden Hours Per Respondent/Recordkeeper:

Recordkeeping: 3 hr., 52 min.

Learning about the law or the form: 5 hr., 1 min.

Preparing the form: 49 min.

Estimated Total Reporting/Recordkeeping Burden: 972,00 hours.

OMB Number: 1545-1498.

Regulation Project Number: REG-209826-96 NPRM.

Type of Review: Extension.

Title: Application of the Grantor Trust Rules to Nonexempt Employees' Trusts.

Description: The regulations provide rules for the application of the grantor trust rules to certain nonexempt employees' trusts. Taxpayers must indicate on a return that they are relying on a special rule to reduce the overfunded amount of the trust.

Respondents: Business or other for-profit.

Estimated Number of Respondents: 1,000.

Estimated Burden Hours Per Respondent: 1 hour.

Frequency of Response: On occasion.

Estimated Total Reporting Burden: 1,000 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports, Management Officer.

[FR Doc. 02-21055 Filed 8-19-02; 8:45 am]

BILLING CODE 4830-01-P